DEPARTMENT OF THE INTERIOR

Bureau of Land Management

[NV-930-1430-ES; N-75424]

Notice of Realty Action: Recreation and Public Purposes (R&PP) Act Classification; Lease and Conveyance of Public Lands near Silver Peak, Nevada

AGENCY: Bureau of Land Management.

ACTION: Classification of public land for lease and conveyance pursuant to the Recreation and Public Purposes Act.

SUMMARY: The following described public land in Esmeralda County, Nevada has been examined and found suitable for lease and conveyance under provisions of the Recreation and Public Purposes Act of June 14, 1926, as amended (43 U.S.C. 869 et seq.), for the purposes of an emergency services training center, in the town of Silver Peak, Nevada.

Mount Diablo Meridian, Nevada

T. 2 S., R. 39 E.,

Section 21, E½SE¼SE¼;

Section 27, NW¼NW¼NW¼;

Section 28, NE¼NE¼NE¼;

Containing 40 acres more or less.

These lands are hereby classified as suitable for lease or conveyance in accordance with section 7 of the Taylor Grazing Act, 43 U.S.C. 315f, and Executive Order No. 6910.

The lands are not needed for Federal purposes. Conveyance is consistent with BLM land use planning and would be in the public interest. Lease and patent will be issued to Esmeralda County and will be subject to the provisions of the Recreation and Public Purposes Act and applicable regulations of the Secretary of the Interior, and will contain the following reservations to the United States:

1. A right-of-way thereon for ditches or canals constructed by the authority of the United States, pursuant to the Act of August 30, 1890 (43 U.S.C. 945);

2. All minerals shall be reserved to the United States, together with the right to prospect for, mine, and remove such deposits from the same under applicable law and regulations to be established by the Secretary of the Interior.

3. A right-of-way authorized under the Act of March 4, 1911, 36 Stat. 1253 (43 U.S.C. 961) for powerline purposes granted to Sierra Pacific Power Company, its successor or assignees, by right-of-way No. N-3931.

4. A right-of-way authorized under the Act of October 21, 1976, 90 Stat. 2776 (U.S.C. 1761) for a power transmission line granted to Sierra Pacific Power Company, its successor or assignees, by right-of-way No. N-13241.

5. A right-of-way authorized under the Act of October 21, 1976, 90 Stat. 2776 (U.S.C. 1761) for a waterline to serve Silver Peak, granted to Esmeralda County, its successor or assignees, by right-of-way No. N-15898.

6. A right-of-way authorized under the Act of October 21, 1976, 90 Stat. 2776 (U.S.C. 1761) for a power transmission line granted to Sierra Pacific Power Company, its successor or assignees, by right-of-way No. N-30965.

7. A right-of-way authorized under the Act of October 21, 1976, 90 Stat. 2776 (U.S.C. 1761) for a water line granted to Foote Mineral Company, its successor or assignees, by right-of-way No. N-44618.

8. A right-of-way authorized under the Act of October 21, 1976, 90 Stat. 2776 (U.S.C. 1761) for a road granted to Homestead Minerals Company, its successor or assignees, by right-of-way No. N-51529.

9. A right-of-way authorized under the Act of February 15, 1901, 31 Stat. 790 (U.S.C. 959) for a water facility pipeline granted to Esmeralda County, its successor or assignees, by right-of-way No. N-74296.

Patent will contain the following provisions:

1. Esmeralda County, a political subdivision of the State of Nevada, its successors or assigns, assumes all liability for and shall defend, indemnify, and save harmless the United States and its officers, agents, representatives, and employees (hereinafter referred to in this clause as the United States), from all claims, loss, damage, actions, causes of actions, expense, and liability (hereinafter referred to in this clause as claims), resulting from, brought for, or on account of, any personal injury, threat of personal injury, or property damage received or sustained by any person or persons (including the patentees employees) or property growing out of, occurring, or attributable directly or indirectly, to the disposal of solid waste on, or the release of hazardous substances from Mount Diablo Meridian, Nevada, T. 2 S., R. 39 E., section 21, E½SE¼SE¼; section 27, NW¼NW¼NW¼; section 28, NE¼NE¼NE¼; regardless of whether such claims shall be attributable to: (1) The concurrent, contributory, or partial fault, failure or negligence of the United States;

2. No portion of the land shall under any circumstances revert to the United States if any portion has been used for solid waste disposal or for any other purpose which may result in the disposal, placement, storage, or release of any hazardous substance;

and will be subject to valid existing rights.

Detailed information concerning this action is available for review at the office of the Bureau of Land Management, Tonopah Field Station, 1553 South Main Street, Tonopah, Nevada.

For a period of 45 days from the date of publication of this notice in the Federal Register, interested parties may submit comments regarding the proposed conveyance or classification of the lands to the Assistant Field Manager, Tonopah Field Station, P.O. Box 911, Tonopah, NV 89049.

Classification Comments: Interested parties may submit comments involving the suitability of the land for use as an emergency services training center. Comments on the classification are restricted to whether the land is physically suited for the proposal, whether the use is consistent with local planning and zoning, or if the use is consistent with State and Federal programs.

Application Comments: Interested parties may submit comments regarding the specific use proposed in the application and plan of development, whether the BLM followed proper administrative procedures in reaching the decision, or any other factor not directly related to the suitability of the land for the uses described.

Any adverse comments will be reviewed by the State Director. In the absence of any adverse comments, the classification of the land will become effective 60 days from the date of publication of this notice in the Federal Register. The lands will not be conveyed until after the classification becomes effective.

Dated: February 2, 2003.
William S. Fisher,
Assistant Field Manager, Tonopah.

[FR Doc. 03-9372 Filed 4-16-03; 8:45 am]

BILLING CODE 4310-HC-P